DEPARTMENT OF DEFENSE

Department of the Army

32 CFR Part 519

RIN 070-AA40-U

Publication of Rules Affecting the Public; Correction

AGENCY: Department of the Army, DoD.

ACTION: Final rule; correction.

SUMMARY: The Department of the Army is correcting a final rule that appeared in the Federal Register of August 6, 2004 (69 FR 47766). The document issued guidance on publication of rules affecting the public in incorporate requirements and policies required by various acts of Congress and Executive Orders. It also incorporates changes to program proponency and policies within the Department of the Army.

DATES: Effective September 7, 2004.

FOR FURTHER INFORMATION CONTACT: Ms. Brenda Bowen, Army Federal Register Liaison Officer, Alexandria, VA at (703) 428-6422 or Mrs. Brenda Kopitzke, Alternate Army Federal Register Liaison Officer, Alexandria, VA at (703) 428-6437.

SUPPLEMENTARY INFORMATION: In the FR Doc. 04-17998 appearing on page 47766 in the Federal Register of Friday, August 6, 2004, the following correction is made:

§ 519.1 [Corrected]

On page 47766, in the third column, in § 519.1 the phase “as implemented by 32 CFR Part 335;” is corrected to read “as implemented by 32 CFR Part 336;”

Brenda S. Bowen,
Army Federal Register Liaison Officer.

[FR Doc. 04-19115 Filed 8-19-04; 8:45 am]

BILLING CODE 3710-08-M